FEDERAL MARITIME COMMISSION

[Docket No. 22-31]

Thompson Pipe Group, Inc. Complainant v. Omni Logistics LLC, Respondent; Notice of Filing of Complaint and Assignment

Served: November 29, 2022.

Notice is given that a complaint has been filed with the Federal Maritime Commission (Commission) by Thompson Pipe Group, Inc. hereinafter “Complainant,” against Omni Logistics LLC (f/k/a Epic Freight Service), hereinafter “Respondent.” Complainant states that it is a corporation organized in the State of Texas. Complainant identifies the Respondent as a limited liability company organized under the laws of the State of Texas and a Non-Vessel-Operating Common Carrier.

Complainant alleges that Respondent violated 46 U.S.C. 41102(c),41102(d), and 41104(a) in its practices, and assessment of charges, including demurrage and other non-freight charges, related to the movement of containers. The full text of the complaint can be found in the Commission's Electronic Reading Room at https://www2.fmc.gov/readingroom/proceeding/22-31/.

This proceeding has been assigned to Office of Administrative Law Judges. The initial decision of the presiding officer in this proceeding shall be issued by November 29, 2023, and the final decision of the Commission shall be issued by June 12, 2024.

William Cody,
Secretary.

[FR Doc. 2022-26315 Filed 12-2-22; 8:45 am]

BILLING CODE 6730-02-P